NUCLEAR REGULATORY COMMISSION

[Docket No. 50-289]

AmerGen Energy Company, LLC (Three Mile Island Nuclear Station, Unit 1); Order Approving Application Regarding Transfer of Interest in AmerGen Energy Company, LLC and Conforming Amendment

I

AmerGen Energy Company, LLC (AmerGen, the licensee) is the holder of Facility Operating License No. DPR-50, which authorizes possession, use, and operation of Three Mile Island Nuclear Station, Unit 1 (the facility). The facility is located at the licensee's site in Dauphin County, Pennsylvania. AmerGen is owned by PECO Energy Company (PECO) and British Energy, Inc., each holding a 50 percent interest. British Energy, Inc., is wholly owned by British Energy, plc.

II

Under cover of a letter dated February 28, 2000, AmerGen submitted an application requesting approval of the transfer of control of the facility operating license that would occur upon a new generating company, Exelon Generation Company, LLC (EGC), acquiring the interest in AmerGen now held by PECO. EGC is to be formed as an indirect subsidiary of a new holding company, Exelon Corporation (Exelon), which was created in connection with the October 20, 2000, merger of Unicom Corporation (Unicom), the parent of Commonwealth Edison Company, and PECO. EGC will be a subsidiary of Exelon Ventures Company, which in turn will be a subsidiary of Exelon. AmerGen also requested approval of a conforming amendment to reflect the transfer. Supplemental information was provided by submittals dated May 12, May 24, June 1 and June 28, 2000. Hereinafter, the February 28, 2000, application and supplemental information will be referred to collectively as the “application.” The conforming license amendment would add language to two license conditions that were imposed in connection with the initial transfer of the license to AmerGen. The first condition, which requires the submission of certain Securities and Exchange Commission reports pertaining to PECO stock, would be expanded to reflect and account for EGC (and further, any direct or indirect successor to PECO's interest) acquiring PECO's interest in AmerGen, such that meaningful reports would continue to be submitted. The second condition, which pertains to the contingency fund commitment now provided to AmerGen by PECO and British Energy, plc, would be expanded to reflect and account for EGC assuming PECO's share of the commitment, which will occur in connection with the subject transfer, and further any successor to any share of the commitment for which either PECO or British Energy, plc, are now responsible.

Approval of the transfer of control of the facility operating license and conforming license amendment was requested by AmerGen pursuant to 10 CFR 50.80 and 10 CFR 50.90. Notice of the request and an opportunity for a hearing was published in the Federal Register on April 10, 2000 (65 FR 19029). The Commission received no comments or requests for hearing pursuant to such notice.

Under 10 CFR 50.80, no license, or any right thereunder, shall be transferred, directly or indirectly, through transfer of control of the license, unless the Commission shall give its consent in writing. Upon review of the information in the application by AmerGen, and other information before the Commission, and relying upon the representation and agreements contained in the application, the NRC staff has determined that the transfer of PECO's interest in AmerGen to EGC will not affect the qualifications of AmerGen to be the holder of the license, that AmerGen will remain qualified to hold the license, and that the transfer of control of the license, to the extent effected by the above transaction, is otherwise consistent with applicable provisions of law, regulations, and orders issued by the Commission, subject to the conditions set forth below. The NRC staff has further found that the application for the proposed license amendment complies with the standards and requirements of the Atomic Energy Act of 1954, as amended, and the Commission's rules and regulations set forth in 10 CFR Chapter I; the facility will operate in conformity with the application, the provisions the Act and the rules and regulation of the Commission; there is reasonable assurance that the activities authorized by the proposed license amendment can be conducted without endangering the health and safety of the public and that such activities will be conducted in compliance with the Commission's regulations; the issuance of the proposed license amendment will not be inimical to the common defense and security or to the health and safety of the public; and the issuance of the proposed amendment will be in accordance with 10 CFR Part 51 of the Commission's regulations and all applicable requirements have been satisfied.

The foregoing findings are supported by a safety evaluation dated December 21, 2000.

III

Accordingly, pursuant to Sections 161b, 161i, 161o, and 184 of the Atomic Energy Act of 1954, as amended, 42 U.S.C. 2201(b), 2201(i), 2201(o), and 2234; and 10 CFR 50.80, it is hereby ordered that the transfer of control of the license as described herein is approved, subject to the following condition:

AmerGen shall inform the Director of the Office of Nuclear Reactor Regulation, in writing, of the date of the closing of the subject transaction no later than 7 business days prior to the date of the closing. Should the transfer of control of the license not be completed by December 31, 2001, this Order shall become null and void, provided, however, upon written application and for good cause shown, such date may in writing be extended.

It is further ordered that, consistent with 10 CFR 2.1315(b), a license amendment that makes changes, as indicated in Enclosure 5 to the cover letter forwarding this Order, to conform the license to reflect the subject transfer of control of the license is approved. The amendment shall be issued and made effective at the time the proposed transfer of control of the license is completed.

This Order is effective upon issuance.

For further details with respect to this Order, see the initial application dated February 28, 2000, and supplemental submittals dated May 12, May 24, June 1 and June 28, 2000, and the safety evaluation dated December 21, 2000, which are available for public inspection at the Commission's Public Document Room, located at One White Flint North, 11555 Rockville Pike (first floor), Rockville, Maryland, and accessible electronically through the ADAMS Public Electronic Reading Room link at the NRC Web site ­(http://www.nrc.gov).

Dated at Rockville, Maryland this 21st day of December 2000.
For the Nuclear Regulatory Commission.
Samuel J. Collins,
Director, Office of Nuclear Reactor Regulation.

[FR Doc. 00-33347 Filed 12-28-00; 8:45 am]

BILLING CODE 7590-01-P